DEPARTMENT OF DEFENSE

Office of the Secretary

[Transmittal No. 15-62]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-62 with attached Policy Justification and Sensitivity of Technology.

Dated: December 8, 2015.
Aaron Siegel,
Alternate OSD Federal Register Liaison Officer, Department of Defense.

BILLING CODE 5001-06-P

Transmittal No. 15-62

Notice of Proposed Issuance of Letter of Offer Pursuant to Section 36(b)(l) of the Arms Export Control Act, as amended

(i) Prospective Purchaser: Government of Japan

(ii) Total Estimated Value:

Major Defense Equipment * | $.689 billion
Other | $.511 billion
TOTAL | $1.20 billion

(iii) Description and Quantity or Quantities of Articles or Services under Consideration for Purchase:

Major Defense Equipment (MDE):

Three (3) RQ-4 Block 30 (I) Global Hawk Remotely Piloted Aircraft with Enhanced Integrated Sensor Suite (EISS)

Eight (8) Kearfott Inertial Navigation System/Global Positioning System (INS/GPS) units (2 per aircraft with 2 spares)

Eight (8) LN-251 INS/GPS units (2 per aircraft with 2 spares)

Also included with this request are operational-level sensor and aircraft test equipment, ground support equipment, operational flight test support, communications equipment, spare and repair parts, personnel training, publications and technical data, U.S. Government and contractor technical and logistics support services, and other related elements of logistics support.

(iv) Military Department: Air Force (X7-D-SAI)

(v) Prior Related Cases, if any: None

(vi) Sales Commission, Fee, etc., Paid, Offered, or Agreed to be Paid: None

(vii) Sensitivity of Technology Contained in the Defense Article or Defense Services Proposed to be Sold: See Attached Annex.

(viii) Date Report Delivered to Congress: 19 NOV 2015

* As defined in Section 47(6) of the Arms Export Control Act

POLICY JUSTIFICATION

Government of Japan-RQ-4 Block 30 (I) Global Hawk Remotely Piloted Aircraft

The Government of Japan has requested a possible sale of:

Major Defense Equipment (MDE):

Three (3) RQ-4 Block 30 (I) Global Hawk Remotely Piloted Aircraft with Enhanced Integrated Sensor Suite (EISS)

Eight (8) Kearfott Inertial Navigation System/Global Positioning System (INS/GPS) units (2 per aircraft with 2 spares)

Eight (8) LN-251 INS/GPS units (2 per aircraft with 2 spares)

Also included with this request are operational-level sensor and aircraft test equipment, ground support equipment, operational flight test support, communications equipment, spare and repair parts, personnel training, publications and technical data, U.S. Government and contractor technical and logistics support services, and other related elements of logistics support. The estimated value of MDE is $.689 billion. The total estimated value is $1.2 billion.

This proposed sale will contribute to the foreign policy and national security of the United States. Japan is one of the major political and economic powers in East Asia and the Western Pacific and a key partner of the United States in ensuring regional peace and stability. This transaction is consistent with U.S. foreign policy and national security objectives and the 1960 Treaty of Mutual Cooperation and Security.

The proposed sale of the RQ-4 will significantly enhance Japan's intelligence, surveillance, and reconnaissance (ISR) capabilities and help ensure that Japan is able to continue to monitor and deter regional threats. The Japan Air Self Defense Force (JASDF) will have no difficulty absorbing these systems into its armed forces.

The proposed sale of this equipment and support will not alter the basic military balance in the region.

The principal contractor will be Northrop Grumman Corporation in Rancho Bernardo, California. The purchaser requested offsets but at this time agreements are undetermined and will be defined in negotiations between the purchaser and contractor.

Implementation of this proposed sale will require the assignment of contractor representatives to Japan to perform contractor logistics support and to support establishment of required security infrastructure.

There will be no adverse impact on U.S. defense readiness as a result of this proposed sale.

Transmittal No. 15-62

Notice of Proposed Issuance of Letter of Offer Pursuant to Section 36(b)(1) of the Arms Export Control Act, as amended

Annex

Item No. vii

(vii) Sensitivity of Technology:

1. The RQ-4 Block 30 Global Hawk hardware and software are UNCLASSIFIED. The highest level of classified information required for operation may be SECRET depending on the classification of the imagery or Signals Intelligence (SIGINT) utilized on a specific operation. The RQ-4 is optimized for long range and prolonged flight endurance. It is used for military intelligence, surveillance, and reconnaissance. Aircraft system, sensor, and navigational status are provided continuously to the ground operators through a health and status downlink for mission monitoring. Navigation is via inertial navigation with integrated global positioning system (GPS) updates. The vehicle is capable of operating from a standard paved runway. Real time missions are flown under the control of a pilot in a Ground Control Element (GCE). It is designed to carry a non-weapons internal payload of 3,000 lbs consisting primarily of sensors and avionics. The following payloads are integrated into the RQ-4: Enhanced Imagery Sensor Suite that includes multi-use infrared, electro-optical, ground moving target indicator, and synthetic aperture radar and a space to accommodate other sensors such as SIGINT. The RQ-4 will include the GCE, which consists of the following components:

a. The Mission Control Element (MCE) is the RQ-4 Global Hawk ground control station for mission planning, communication management, aircraft and mission control, and image processing and dissemination. It can be either fixed or mobile. In addition to the shelter housing the operator workstations, the MCE includes an optional 6.25 meter Ku-Band antenna assembly, a Tactical Modular Interoperable Surface Terminal, a 12-ton Environmental Control Unit (heating and air conditioning), and two 100 kilowatt electrical generators. The MCE, technical data, and documentation are UNCLASSIFIED. The MCE may operate at the classified level depending on the classification of the data feeds.

b. The Launch and Recovery Element (LRE) is a subset of the MCE and can be either fixed or mobile. It provides identical functionality for mission planning and air vehicle command and control (C2). The launch element contains a mission planning workstation and a C2 workstation. The primary difference between the LRE and MCE is the lack of any wide-band data links or image processing capability within the LRE and navigation equipment at the LRE to provide the precision required for ground operations, take-off, and landing. The LRE, technical data, and documentation are UNCLASSIFIED. The EISS includes infrared/electro-optical, synthetic aperture radar imagery, ground moving target indicator and space to accommodate optional SIGINT, Maritime, datalink, and automatic identification system capabilities. The ground control element includes a mission control function and a launch and recovery capability.

c. The RQ-4 employs a quad-redundant Inertial Navigation System/Global Positioning System (INS/GPS) configuration. The system utilizes two different INS/GPS systems for greater redundancy. The system consists of two LN-251 units and two Kearfott KN-4074E INS/GPS Units. The LN-251 is a fully integrated, non-dithered navigation system with an embedded Selective Availability/Anti-Spoofing Module (SAASM), P(Y) code or Standard Positioning Service (SPS) GPS. It utilizes a Fiber-Optic Gyro (FOG) and includes three independent navigation solutions: blended INS/GPS, INS-only, and GPS-only. The Kearfott KN-4074E features a Monolithic Ring Laser Gyro (MRLG) and accelerometer. The inertial sensors are tightly coupled with an embedded SAASM P(Y) code GPS. Both systems employ cryptographic technology that can be classified up to SECRET.

2. If a technology advanced adversary were to obtain knowledge of the specific hardware and software elements, the information could be used to develop countermeasures that might reduce weapon system effectiveness or be used in the development of a system with similar or advanced capabilities.

3. All defense articles and services listed in this transmittal have been authorized for release and export to the Government of Japan.

[FR Doc. 2015-31264 Filed 12-10-15; 8:45 am]

BILLING CODE 5001-06-C